DEPARTMENT OF THE INTERIOR

Fish and Wildlife Service

[FWS-HQ-MB-2017-N149; 91200-FF09M21200-178-FXMB1231099BPP0]

Environmental Assessment and Finding of No Significant Impact for the Issuance of Depredation Permits for Double-Crested Cormorants

AGENCY: Fish and Wildlife Service, Interior.

ACTION: Notice of availability.

SUMMARY: This notice advises the public of the completion of an environmental assessment (EA) and finding of no significant impact (FONSI). The EA analyzed the potential impacts of a proposal to make decisions on depredation permit applications for the annual take (i.e., lethal removal) of up to 51,571 double-crested cormorants, Phalcrocorax auritus, across 37 central and eastern States and the District of Columbia. The EA considered two alternatives: The proposed action; and the reduced take alternative (which is the preferred alternative). The scope of the EA is to issue permits to manage cormorant damage at aquaculture facilities, protect human health and safety, protect threatened and endangered wildlife, and alleviate damage to property. Based on the analysis contained in the EA, the Service finds that the preferred alternative would not constitute a major Federal action significantly affecting the quality of the human environment, as outlined in the accompanying FONSI.

ADDRESSES: You can obtain a copy of the EA and FONSI by writing to the Division of Migratory Bird Management, 5275 Leesburg Pike, Falls Church, VA 22041. We will also post the EA on our Web site at http://www.fws.gov/migratorybirds.

FOR FURTHER INFORMATION CONTACT: Ken Richkus, Deputy Chief, Division of Migratory Bird Management, (703) 358-1730; Ken_Richkus@fws.gov.

SUPPLEMENTARY INFORMATION:

Background

The U.S. Fish and Wildlife Service (Service) is the Federal agency delegated the primary responsibility for managing migratory birds. Our authority derives from the Migratory Bird Treaty Act of 1918, as amended (MBTA or Act, 16 U.S.C. 703 et seq.), which implements conventions with Great Britain (for Canada), Mexico, Japan, and the Russia Federation. The MBTA protects certain migratory birds from take, except as permitted under the Act. We implement the provisions of the MBTA through regulations in parts 10, 13, 20, 21, and 22 of title 50 of the Code of Federal Regulations (CFR). Regulations pertaining to migratory bird permits are at 50 CFR part 21.

The EA serves as a framework for the Service to make timely decisions on depredation permit applications submitted pursuant to 50 CFR 21.41 for the lethal take of cormorants. Based on the scope and environmental consequences identified in the EA, the Service will evaluate each permit application that we receive on an individual basis. We will also conduct a tiered review under the National Environmental Policy Act of 1969 (42 U.S.C. 4321 et seq.; NEPA) and produce a finding identifying whether any additional actions or assessments are needed.

The proposed action and the preferred alternative in the EA address the need of the Service to maintain cormorant populations and process depredation permit applications for the lethal take of cormorants to: (1) Alleviate damage at or near aquaculture facilities; (2) protect human health and safety; (3) protect threatened and endangered species (as listed under the Endangered Species Act of 1973, as amended, (16 U.S.C. 1531 et seq.)); and (4) alleviate damage to property. The geographic scope of the EA is limited to 37 central and eastern States and the District of Columbia, as identified in the EA. This EA assists with our compliance with NEPA and aids us in making a determination as to whether the actions could “significantly” impact the human environment, which includes “the natural and physical environment and the relationship of people with that environment” (40 CFR 1508.14).

Based on the independent analysis within the EA, the Service has found that this action would not constitute a major Federal action significantly affecting the quality of the human environment. A FONSI has been signed for the proposed action of making decisions on depredation permit applications to manage cormorant damage related to human health and safety, aquaculture facilities, protection of threatened and endangered species, and property damage and is now available.

Authority

This notice is published under the authority of the National Environmental Policy Act of 1969, as amended (42 U.S.C. 4321 et seq.).

Dated: October 27, 2017.
Gregory J. Sheehan,
Principal Deputy Director, U.S. Fish and Wildlife Service.

[FR Doc. 2017-24702 Filed 11-14-17; 8:45 am]

BILLING CODE 4333-15-P